DEPARTMENT OF THE INTERIOR

Bureau of Land Management

[NV-952-01-1420-BJ]

Filing of Plats of Survey; Nevada

AGENCY: Bureau of Land Management.

ACTION: Notice.

SUMMARY: The purpose of this notice is to inform the public and interested State and local government officials of the filing of Plats of Survey in Nevada.

EFFECTIVE DATES: Filing is effective at 10:00 on the dates indicated below.

FOR FURTHER INFORMATION CONTACT: Robert M. Scruggs, Chief, Branch of Geographic Services, Bureau of Land Management (BLM), Nevada State Office, 1340 Financial Blvd., P.O. Box 12000, Reno, Nevada 89520, 775-861-6541.

SUPPLEMENTARY INFORMATION: 1. The Plats of Survey of the following described lands will be officially filed at the Nevada State Office, Reno, Nevada on the first business day after 30 days from the publication of this notice:

The plat, representing the independent resurvey of the west and north boundaries and a portion of the subdivisional lines, superceding a portion of the plat approved May 28, 1881, Township 14 South, Range 69 East, of the Mount Diablo Meridian, in the state of Nevada, under Group No. 789, was accepted May 31, 2001.

The plat, in four (4) sheets, representing the dependent resurvey of the Third Standard Parallel South, through a portion of Range 68 East, and a portion of the east boundary, and the independent resurvey of the west boundary and a portion of the subdivisional lines, and metes-and-bounds surveys of Interstate Highway No. 15, superceding a portion of the plat approved December 2, 1881, Township 13 South, Range 69 East, of the Mount Daiblo Meridian, in the state of Nevada, under Group No. 789, was accepted May 31, 2001.

These surveys were executed to meet certain needs of the Bureau of Land Management and the City of Mesquite.

2. Subject to valid existing rights, the provisions of existing withdrawals and classifications, the requirements of applicable laws, and other segregations of record, these lands are open to application, petition, and disposal, including application under the mineral leasing laws. All such valid applications received on or prior to official filing of the Plats of Survey described in paragraph 1, shall be considered as simultaneously filed at that time. Those received thereafter shall be considered in order of filing.

3. The above-listed surveys are now the basic record for describing the lands for all authorized purposes. These surveys have been placed in the open files in the BLM Nevada State Office and are available to the public as a matter of information. Copies of the surveys and related field notes may be furnished to the public upon payment of the appropriate fees.

Dated: June 1, 2001.
Robert M. Scruggs,
Chief Cadastral Surveyor, Nevada

[FR Doc. 01-16215 Filed 6-27-01; 8:45 am]

BILLING CODE 4310-HC-P